DEPARTMENT OF LABOR

Bureau of Labor Statistics

Data Users Advisory Committee; Notice of Meeting and Agenda

The Bureau of Labor Statistics Data Users Advisory Committee will meet on Thursday May 17, 2012. The meeting will be held in the Postal Square Building, 2 Massachusetts Avenue NE.; Washington, DC.

The Committee provides advice to the Bureau of Labor Statistics from the points of view of data users from various sectors of the U.S. economy, including the labor, business, research, academic, and government communities, on technical matters related to the collection, analysis, dissemination, and use of the Bureau's statistics, on its published reports, and on the broader aspects of its overall mission and function.

The meeting will be held in Meeting Rooms 1, 2, and 3 of the Postal Square Building Conference Center. The schedule and agenda for the meeting are as follows:

8:30 a.m. Registration.

8:45 a.m. Introductions, welcome, and brief review of agency developments.

9 a.m. Federal Advisory Committee Membership.

9:15 a.m. Employment Measures by Age of Firm.

10:15 a.m. Treatment of Contractors in BLS Data.

1 p.m. Prospectus on New Benefit Cost Measures.

2 p.m. Reinventing the Monthly Labor Review.

3:15 p.m. Brainstorming Session—suggestions for data or program improvements.

3:45 p.m. Meeting wrap-up.

4 p.m. The Shifting Composition of Workplace Injuries and Illnesses (extra/optional topic for interested members).

The meeting is open to the public. Any questions concerning the meeting should be directed to Kathy Mele, Data Users Advisory Committee, on 202-691-6102. Individuals who require special accommodations should contact Ms. Mele at least two days prior to the meeting date.

Signed in Washington, DC, this 2nd day of April 2012.
Kimberley D. Hill,
Chief, Division of Management Systems, Bureau of Labor Statistics.

[FR Doc. 2012-8320 Filed 4-5-12; 8:45 am]

BILLING CODE 4510-24-P